ENVIRONMENTAL PROTECTION AGENCY

[FRL-6936-6]

Draft National Coastal Condition Report

AGENCY: Environmental Protection Agency (EPA).

ACTION: Notice of availability and request for comments.

SUMMARY: Notice of availability is hereby given for a 60-day public comment period on the draft National Coastal Condition Report describing the condition of the Nation's coastal waters. Coastal waters are valuable from both an environmental and economic perspective. These waters are also vulnerable to pollution from diverse sources. EPA expects that this report on the condition of coastal waters will support more informed decisions concerning protection of this resource and will increase public awareness of the extent and seriousness of pollution of these waters. EPA seeks public input concerning the information used in the report, the availability of additional data, and the appropriateness of conclusions drawn from the information presented.

DATES: Written comments must be received by March 26, 2001.

ADDRESSES: Address all comments concerning this notice to Barry Burgan, U.S. Environmental Protection Agency (4504-F), 1200 Pennsylvania Avenue, NW, Washington, DC 20460; telephone (202) 260-7060; fax (202) 260-9960.

FOR FURTHER INFORMATION CONTACT: Barry Burgan, U.S. Environmental Protection Agency (4504-F) 1200 Pennsylvania Avenue, NW, Washington, DC 20460. See Supplementary information section for electronic access and filing address.

SUPPLEMENTARY INFORMATION:

I. Background

The National Coastal Condition Report describes the condition of coastal waters based on available information. The report concludes that the overall condition of coastal waters is fair to poor with some variation in conditions from region to region. A combination of data, mostly from EPA, the National Oceanic and Atmospheric Administration, the U.S. Geological Survey, and the U.S. Fish and Wildlife Service is used to present indicators of coastal condition and a broad baseline picture of the condition of coastal waters. The Report also highlights several exemplary programs at the Federal, State, Tribal, and local levels that show coastal condition at various regional scales.

This Report is the first attempt to provide the public with a comprehensive picture of the health of the Nation's coastal waters. It will serve as a useful benchmark for analyzing the progress of coastal management programs in the future. We recognize that data are not currently available to characterize all the estuarine and near-coastal waters of the country and that work is still needed in formulating improved indicators of the coastal condition. Public input on the draft Report regarding data completeness, the choice of indicators, the methodologies used to synthesize data, the “bars” set for each indicator, the choice of spatial scales and the overall Report presentation is important to us in preparing this and future reports.

II. Electronic Access and Filing

You may view and download the draft Report on EPA's Internet site at the Office of Water homepage at http://epa.gov/ow/ under What's New in Water. You may submit comments by sending electronic mail (e-mail) to burgan.barry@epa.gov; comments may also be mailed to Barry Burgan at the following address: U.S. Environmental Protection Agency (4504-F), 1200 Pennsylvania Avenue, NW, Washington, DC 20460. Submit comments as an ASCII file avoiding the use of special characters and any form of encryption. Identify all comments and data in electronic form by docket number.

Dated: January 18, 2001.
J. Charles Fox,
Assistant Administrator, Office of Water.

[FR Doc. 01-2177 Filed 1-24-01; 8:45 am]

BILLING CODE 6560-50-P